DEPARTMENT OF DEFENSE

Department of the Army

Notice of Availability (NOA) of the Draft Environmental Impact Statement (DEIS) on the Transformation of the 172nd Infantry Brigade (Separate) to a Stryker Brigade Combat Team (SBCT) at U.S. Army Alaska

AGENCY: Department of the Army, DoD.

ACTION: Notice of availability.

SUMMARY: The DEIS analyzes the environmental impacts of transforming the 172th Infantry Brigade (Separate) to an SBCT at U.S. Army Alaska. The proposed action would affect changes to force structure and changes to ranges, facilities, and infrastructure designed to meet objectives of Army transformation in Alaska. Proposed locations for changes include Fort Wainwright (FWA), Fort Richardson (FRA), and outlying training areas (e.g., Gerstle River Training Area and Black Rapids Training Site). Proposed areas of activity changes on FWA would include cantonment areas, Tanana Flats Training Area, Yukon Training Area, and Donnelly Training Area (formerly Fort Greely). The proposed action would alter various activities on military and training lands in Alaska. The range of proposed activities include: (1) Stationing of forces within USARAK to achieve mission requirements; (2) construction, renovation, and demolition activies; (3) training to achieve and maintain readiness to perform assigned missions; (4) fielding of weapons systems and equipment (to include the Stryker, a light armored vehicle, and the Shadow, an unmanned aerial vehicle); (5) deployment of forces and equipment and specific deployment training activities; and (6) institutional matters to include entire range of day-to-day management and operational activities not otherwise accounted for in other activity categories.

DATES: The comment period for the DEIS will end 60 days after publication of the NOA in the Federal Register by the U.S. Environmental Protection Agency.

ADDRESSES: To obtain a copy of the DEIS, ask questions, or submit written comments, contact Mr. Kevin Gardner, Directorate of Public Works, 730 Quartermaster Road, Attention: APVR-RPW-EV (Gardner), Fort Richardson, AK 99505-6500; or Mr. Calvin Bagley, Center for Environmental Management of Military Lands (CEMML), Colorado State University, Fort Collins, CO 80523-1490.

FOR FURTHER INFORMATION CONTACT: Mr. Kevin Gardner by telephone at 907-384-3003; by facsimile at 907-384-3047; or via e-mail at kevin.gardner@richardson.army.mil; or Mr. Calvin Bagley by telephone at 970-491-3324; by facsimile at 970-491-2713; or via e-mail at cbagley@cemml.colostate.edu.

SUPPLEMENTARY INFORMATION: The DEIS analyzes three alternative courses of action with respect to the transformation of the 172nd Infantry Brigade (Separate) (172nd SIB) into an SBCT at USARAK: (1) The no action alternative, under which no transformation activities would occur and the existing 172nd SIB mission would continue; (2) the transformation of the 172nd SIB with new infrastructure alternative, under which the 172nd SIB, excpet for the 1-501st Parachute Infantry Regiment (PIR), would transform into an SBCT and the construction of five new SBCT-required facilities; and (3) the transformation of the 172nd SIB with new infrastructure and an Airborne Task Force alternative, under which the 172nd SIB, except for the 1-501st PIR, would transform into an SBCT and the construction of five new SBCT-required facilities. Under this alternative, the 1-501st PIR would be assigned to USARAK and would expand to an Airborne Task Force.

Comments on the DEIS received during the 60-day public comment period will be considered in preparing the USARAK's Final EIS. Public meetings will be held during the comment period and will be announced in the local news media.

Copies of the DEIS are avaiable for review at the following libraries: Z.J. Loussac Public Library, 3600 Denali Street, Anchorage, Alaska; Chugiak/Eagle River Public Library, 12400 Old Glenn Highway, Eagle River, Alaska; Noel Wien Public Library, 1215 Cowles Street, Fairbanks, Alaska; and the Delta Junction Public Library, Deborah Street, Delta Junction, Alaska. The DEIS is also avaialble for review at the following Web site: www.cemml.colostate.edu/alaskaeis.

Dated: June 27, 2003.
Raymond J. Fatz,
Deputy Assistant Secretary of the Army (Environment, Safety and Occupational Health), OASA(I&E).

[FR Doc. 03-17015 Filed 7-3-03; 8:45 am]

BILLING CODE 3710-08-M